FEDERAL TRADE COMMISSION

Agency Information Collection Activities; Submission for OMB Review; Comment Request; Extension

AGENCY: Federal Trade Commission (“FTC” or “Commission”).

ACTION: Notice.

SUMMARY: The information collection requirements described below will be submitted to the Office of Management and Budget (OMB) for review, as required by the Paperwork Reduction Act (PRA). The FTC seeks public comments on its proposal to extend for three years the current PRA clearance for information collection requirements pertaining to the Commission's administrative activities. That clearance expires on April 30, 2018, and consists of: (a) Requests to the Commission primarily under Parts I and IV of the Commission's Rules of Practice; (b) the FTC's consumer complaint systems; and (c) the FTC's program evaluation activities.

DATES: Comments must be filed by May 25, 2018.

ADDRESSES: Interested parties may file a comment online or on paper, by following the instructions in the Request for Comment part of the SUPPLEMENTARY INFORMATION section below. Write “Paperwork Reduction Act: FTC File No. P072108” on your comment and file your comment online at https://ftcpublic.commentworks.com/ftc/adminactivitiespra2, by following the instructions on the web-based form. If you prefer to file your comment on paper, mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024.

FOR FURTHER INFORMATION CONTACT: For purposes specific to this Federal Register Notice: (a) Requests to the Commission: Gary Greenfield (Office of the General Counsel), 202-326-2753; (b) Complaint Systems: Nicholas Mastrocinque (Nick M.) and Ami Dziekan (Ami D.) (Bureau of Consumer Protection); Nick M., 202-326-3188 and Ami D., 202-326-2648; and (c) Program Evaluations: Jennifer Lee (Divestiture Orders), 202-326-2246; Derek Moore (Review of Competition Advocacy Program), 202-326-3367.

SUPPLEMENTARY INFORMATION: On January 22, 2018, the FTC sought public comment on the information collection requirements associated with the Commission's administrative activities (“January 22, 2018 Notice” ¹). As required by OMB regulations, 5 CFR part 1320, that implement the PRA, 44 U.S.C. 3501-3521, the FTC is providing this second opportunity for public comment.

¹ 83 FR 2988.

Most comments on the January 22, 2018 Federal Register Notice were non-germane, but five comments questioned the reliability of FTC randomly sampling consumer complainants for feedback regarding ftc.gov complaint sites.² The public comments appear focused on the veracity and quality of the complaints and request that the FTC admit only complaints from consumers who are not “misguided” and who demonstrate “critical thinking skills.” The FTC simply cannot verify the millions of complaints it receives and so it makes clear to law enforcement users of the system that the information is unverified. It is the role of the Sentinel user to judge the veracity of the complaints. For example, the FTC often seeks signed declarations to verify consumer experiences. Additionally, Bureau of Consumer Protection staff meets periodically with its law enforcement partners to help determine how Sentinel can provide the information needed to open and successfully prosecute civil or criminal consumer fraud cases.

² Comments of Samuel Meyer; Anthony Clavien; Corey Bates (CEO, Auto Connection); Gary Jodat of Jodat Law Group; Aaron Leidler of Keller Williams Realty (Brentwood, CA).

The agency conducts surveys to determine consumer satisfaction with the complaint intake systems. The agency uses the American Consumer Satisfaction Index (ACSI) to conduct its survey of the Consumer Response Center. ACSI uses random samples of customer interviews as input to a multi-equation econometric model. Such sampling is a practical measure given the vast volume of consumer complaints entering Sentinel and the limited number of consumers who provide substantive feedback.

For the ftc.gov complaint sites, the FTC uses a full-measure survey called ForeSee on the Complaint Assistant. When consumers complete the complaint form and hit “Submit,” they are given the invitation to take the survey. The consumer can choose to take the survey or not. The survey is not presented to anyone who does not complete and submit the complaint form. The survey's key goal is to enable a smooth consumer complaint reporting experience that will result in a consumer complaint entering Sentinel.

Burden Statement: As detailed in the January 22, 2018 Notice, the FTC estimates cumulative annual burden on affected entities to be 1,167,181 hours and $25,240 in labor costs. There are no capital, start up, operation, maintenance, or other similar costs to the affected entities.

Request for Comment: You can file a comment online or on paper. For the FTC to consider your comment, we must receive it on or before May 25, 2018. Write “Paperwork Reduction Act: FTC File No. P072108” on your comment. Your comment—including your name and your state—will be placed on the public record of this proceeding, including, to the extent practicable, on the public Commission website, at http://www.ftc.gov/os/publiccomments.shtm.

Postal mail addressed to the Commission is subject to delay due to heightened security screening. As a result, we encourage you to submit your comments online, or to send them to the Commission by courier or overnight service. To make sure that the Commission considers your online comment, you must file it at https://ftcpublic.commentworks.com/ftc/adminactivitiespra2, by following the instructions on the web-based form. When this Notice appears at http://www.regulations.gov/#!home, you also may file a comment through that website.

If you file your comment on paper, write “Paperwork Reduction Act: FTC File No. P072108” on your comment and on the envelope, and mail it to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024. If possible, submit your paper comment to the Commission by courier or overnight service.

Because your comment will be placed on the publicly accessible FTC website at https://www.ftc.gov/, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC website—as legally required by FTC Rule 4.9(b)—we cannot redact or remove your comment from the FTC website, unless you submit a confidentiality request that meets the requirements for such treatment under FTC Rule 4.9(c), and the General Counsel grants that request.

The FTC Act and other laws that the Commission administers permit the collection of public comments to consider and use in this proceeding as appropriate. The Commission will consider all timely and responsive public comments that it receives on or before May 25, 2018. For information on the Commission's privacy policy, including routine uses permitted by the Privacy Act, see https://www.ftc.gov/site-information/privacy-policy. For supporting documentation and other information underlying the PRA discussion in this Notice, see http://www.reginfo.gov/public/jsp/PRA/praDashboard.jsp.

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW, Washington, DC 20503. Comments sent to OMB by U.S. postal mail, however, are subject to delays due to heightened security precautions. Thus, comments instead can also be sent by email to wliberante@omb.eop.gov.

David C. Shonka,
Principal Deputy General Counsel.

[FR Doc. 2018-08627 Filed 4-24-18; 8:45 am]

BILLING CODE 6750-01-P